DEPARTMENT OF LABOR

Employment and Training Administration

[TA-W-83,194]

Merck Sharp & Dohme Corp., (MSD), a Subsidiary of Merck & Co., Inc., West Point, Pennsylvania; Notice of Affirmative Determination Regarding Application for Reconsideration

By application dated March 10, 2014, the Commonwealth of Pennsylvania requested administrative reconsideration of the negative determination regarding workers' eligibility to apply for Trade Adjustment Assistance (TAA) applicable to workers and former workers of the subject firm. The determination was issued on February 18, 2014 and the Department's Notice of determination was published in the Federal Register on March 14, 2014 (79 FR 14543). Workers at the subject firm are engaged in activities related to the production of pharmaceuticals and vaccines for human use.

The negative determination was based on the Department's findings that the subject firm did not shift production of pharmaceuticals and vaccines to a foreign country (or acquire such production from a foreign country) and that imports of articles like or directly competitive with the pharmaceuticals and vaccines produced by the workers did not increase during the period under investigation.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The request for reconsideration included information that indicates that the determination was based on facts not previously considered. The request for reconsideration stated that the worker group at the subject facility consists of three separately identifiable worker sub-groups (research and development, manufacturing, and global support networks), that the scope of the initial investigation was “overly narrow” because workers in the research and development sub-group and/or the global support networks sub-group “may be engaged in activities totally separate and unrelated from” activities of the manufacturing sub-group. The request for reconsideration included supporting documents.

The Department has carefully reviewed the request for reconsideration, including the attachments, and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 8th day of April, 2014.
Del Min Amy Chen,
Certifying Officer, Office of Trade Adjustment Assistance.

[FR Doc. 2014-09753 Filed 4-28-14; 8:45 am]

BILLING CODE 4510-FN-P